DEPARTMENT OF COMMERCE

Foreign-Trade Zones Board

[B-19-2020]

Foreign-Trade Zone (FTZ) 77—Memphis, Tennessee, Authorization of Production Activity, ISK Biosciences Corporation (Agricultural Chemicals), Memphis, Tennessee

On March 12, 2020, the City of Memphis, grantee of FTZ 77, submitted a notification of proposed production activity to the FTZ Board on behalf of ISK Biosciences Corporation, within Subzone 77I, in Memphis, Tennessee.

The notification was processed in accordance with the regulations of the FTZ Board (15 CFR part 400), including notice in the Federal Register inviting public comment (85 FR 17310, March 27, 2020). On July 10, 2020, the applicant was notified of the FTZ Board's decision that no further review of the activity is warranted at this time. The production activity described in the notification was authorized, subject to the FTZ Act and the FTZ Board's regulations, including Section 400.14.

Dated: July 10, 2020.
Andrew McGilvray,
Executive Secretary.

[FR Doc. 2020-15284 Filed 7-14-20; 8:45 am]

BILLING CODE 3510-DS-P